DEPARTMENT OF VETERANS AFFAIRS

Privacy Act of 1974; System of Records

AGENCY: Department of Veterans Affairs.

ACTION: Notice of amendment of system of records.

SUMMARY: As required by the Privacy Act of 1974, 5 U.S.C. 552a(e), Notice is hereby given that the Department of Veterans Affairs (VA) is adding a new routine use to a VA system of records entitled “Loan Guaranty Home, Condominium and Manufactured Home Loan Applicant Records, Specially Adapted Housing Applicant Records and Vendee Loan Applicant Records-VA” (55VA26). The routine use will clarify the circumstances under which VA will provide individually identified information on veterans having active VA-guaranteed loans. VA will provide this information upon request, to individuals and entities that issue Interest Rate Reduction Refinancing Loans (IRRRL) where the requester has a pending IRRRL application from an individual who has an active VA-guaranteed loan. VA is also updating the Policies and Practices for Storing, Retrieving, Accessing, Retaining and Disposing of Records because VA is initiating a new, web-based application that will allow IRRRL lenders to obtain this information directly from the VA system.

DATES: Comments must be received on or before January 6, 2003. If no public comment is received during the 30 day review period allowed for public comment, or unless otherwise published in the Federal Register by VA, this routine use is effective January 6, 2003.

ADDRESSES: You may mail or hand deliver written comments concerning the proposed new routine use to the Office of Regulations Management (02D), Department of Veterans Affairs, 810 Vermont Avenue, NW., Washington, DC 20420; or fax comments to (202) 273-9289; or e-mail comments to OGCRegulations@mail.va.gov. All relevant material received before January 6, 2003, will be considered. Comments will be available for public inspection at the above address in the Office of Regulations Management, Room 1158, between the hours of 8 a.m. and 4:30 p.m., Monday through Friday (except holidays).

FOR FURTHER INFORMATION CONTACT: Mr. Robert D. Finneran, Assistant Director for Policy and Valuation (262), Loan Guaranty Service, Veterans Benefits Administration, Department of Veterans Affairs, Washington, DC 20420, (202) 273-7368.

SUPPLEMENTARY INFORMATION: In the course of administering the VA loan guaranty program, VA must provide information to the lenders who make loans to veterans which VA guarantees. In the case of an IRRRL, a lender who is considering making such a loan to a loan applicant would need to know whether the veteran currently has an active VA loan on the books. Data concerning a veteran's use of the loan guaranty benefit is contained in the VA system of records entitled “Loan Guaranty Home, Condominium and Manufactured Home Loan Applicant Records, Specially Adapted Housing Applicant Records and Vendee Loan Applicant Records-VA” (55VA26).

VA has developed a new routine use for 55VA26 to permit VA to disclose individually identified veteran loan guaranty information from that system of records to an active VA lender, lender's agent, mortgage broker, or other program participant, as necessary to originate a VA IRRRL to that veteran.

The proposed routine use will provide Privacy Act authority for VA to disclose this identified information to lenders only for the purpose of originating IRRRLs. Lenders must still comply with any applicable confidentiality requirements before disclosing any information to VA in order to learn whether the loan applicant has a current VA loan. Examples of confidentiality requirements are the rules providing for the protection of non-public personal information published by various Federal entities under 15 U.S.C. 6801-6809. See, e.g., 16 CFR part 313, 12 CFR part 716.

Currently lenders needing information to originate IRRRLs contact a VA facility either by telephone or e-mail. VA personnel then access internal VA records and obtain the requested information. VA personnel then communicate the necessary information to the requesting lenders by telephone or e-mail. Under the new procedure, recognized program participants will be able to use a VA-developed, Internet-based application to retrieve the data directly from VA records without the need of VA personnel. This will allow the lender almost instant access to the information required and eliminate the need for VA personnel to research and reply to the lender. This change is being made for reasons of improved efficiency. Of the approximately 15,000 VA-approved lenders, about 5,000 make VA-guaranteed home loans in a given year and could potentially need to request information from VA to originate a refinancing loan.

VA takes very seriously its responsibility to securely maintain the privacy data maintained on veterans in VA systems of records and does not intend to release any information under this routine use that is not necessary to the processing of a particular transaction. Releases of information pursuant to this use will be limited to the case of a veteran applying for an IRRRL. The information provided will be limited to the VA loan number, veteran's name, entitlement code, original loan amount, guaranty amount, and status of the loan (i.e., active or paid in full).

In order to obtain information from the VA system, the party requesting the information must establish the fact that it is a participant in the VA home loan program, through the use of the VA lender identification number assigned by VA Loan Guaranty Service to that party. The requester will log on to the application through the Internet using the requester's 10-digit VA lender ID and a password unique to the requester. Lending entities are required to keep the assigned passwords confidential in accordance with established VBA procedures, and to promptly report any compromise of their assigned passwords. The requester must also provide the veteran's name and social security number and such other information as may be necessary to identify the record or records in question.

As a precaution, to ensure that the information is in fact being requested on behalf of the veteran to whom the record pertains, and in order to process a pending transaction with, or application of, a VA beneficiary, rather than for commercial solicitation purposes, the lender will have to supply either the 12-digit VA loan number or the month and year of the loan being refinanced. IRRRL lenders currently provide this information either orally or by e-mail when requesting information under the current system described above.

VA is amending the Safeguards portion of the Policies and Practices for Storing, Retrieving, Accessing, Retaining, and Disposing of the Records in the System by adding a paragraph at the end of that portion to reflect the safeguards applicable to lender IRRRL access to the VA system.

VA has determined that release of information under the circumstances described above is a necessary and proper use of information in this system of records and that the specific routine use proposed for the transfer of this information is appropriate.

An altered system of records report and a copy of the revised system notice have been sent to the House of Representatives Committee on Government Reform and Oversight, the Senate Committee on Governmental Affairs, and the Office of Management and Budget (OMB) as required by 5 U.S.C. 552a(r) and guidelines issued by OMB (59 FR 37906, 37916-18, July 25, 1994.)

The proposed routine use will be added to the system of records entitled “Loan Guaranty Home, Condominium and Manufactured Home Loan Applicant Records, Specially Adapted Housing Applicant Records, and Vendee Loan Applicant Records—VA” (55VA26) as published at 40 FR 38095, August 26, 1975, and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993 and 62 FR 35545 (July 1, 1997).

Approved: November 15, 2002.
Anthony J. Principi,
Secretary of Veterans Affairs.

Notice of Amendment to System of Records

The system of records identified as “Loan Guaranty Home, Condominium and Manufactured Home Loan Applicant Records, Specially Adapted Housing Applicant Records and Vendee Loan Applicant Records—VA” (55VA26), published at 40 FR 38095, August 26, 1975 and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993; and 62 FR 35545 (July 1, 1997), is revised to add a new routine use number 34 as follows:

55VA26

SYSTEM NAME:

Loan Guaranty Home, Condominium and Manufactured Home Loan Applicant Records, Specially Adapted Housing Applicant Records, and Vendee Loan Applicant Records—VA.

* * * * *

ROUTINE USES OF RECORDS MAINTAINED IN THE SYSTEM, INCLUDING CATEGORIES OF USERS AND THE PURPOSES OF SUCH USES:

* * * * *

34. Any information in this system may be disclosed to an active VA lender, lender's agent, mortgage broker, or other program participant in response to a request from that individual or entity if that information is necessary in connection with the origination of a VA-guaranteed Interest Rate Reduction Refinancing Loan (IRRRL). In order to obtain information under this routine use, the party requesting the information must establish the fact that it is a participant in the VA home loan program through the use of a VA lender identification number. The requester must also provide the veteran's name and social security number and the month and year of the loan being refinanced or the 12-digit VA loan number.

* * * * *

Policies and practices for storing, retrieving, accessing, retaining, and disposing of records in the system:

* * * * *

Safeguards:

* * * * *

A VA-approved, active VA lender, lender's agent, mortgage broker, or other program participant may obtain access to the computerized VA system maintaining this system of records for the purpose of learning whether an applicant for a VA-guaranteed IRRRL has a current VA-guaranteed loan under the following circumstances. The lender must log on to the system using the unique 10-digit lender identification number assigned by VA and a unique password. The lender also must enter information identifying the specific veteran for whom the IRRRL lender seeks information, including the veteran's name, social security number and other identifying information, such as the 12-digit loan number for the veteran's current VA-guaranteed loan or the month and year of the loan.

[FR Doc. 02-30780 Filed 12-5-02; 8:45 am]

BILLING CODE 8320-01-P